DEPARTMENT OF DEFENSE

Office of the Secretary

Federal Advisory Committee; Threat Reduction Advisory Committee

AGENCY: Office of the Under Secretary of Defense (Acquisition, Technology and Logistics); DoD.

ACTION: Notice of closed meeting.

SUMMARY: Under the provisions of the Federal Advisory Committee Act of 1972 (5 U.S.C., Appendix, as amended) and the Sunshine Act of 1976 (5 U.S.C. 552b, as amended) the Department of Defense announces a meeting of the Threat Reduction Advisory Committee (hereafter referred to as “the Committee” or “TRAC”) on October 21, 2010, in Chantilly, VA.

DATES: The meeting will be held on Thursday, October 21, 2010, from 9 a.m. to 5 p.m.

ADDRESSES: The meeting will be held at the Heritage Conference Center, Trenton Conference Room, 4803 Stonecroft Boulevard, Chantilly, VA 20151.

FOR FURTHER INFORMATION CONTACT: Designated Federal Officer or Point of Contact: Mr. Eric Wright, Defense Threat Reduction Agency/AST, 8725 John J. Kingman Road, MS 6201, Fort Belvoir, VA 22060-6201, or by e-mail: eric.wright@dtra.mil, phone: (703) 767-4759, fax: (703) 767-5701.

SUPPLEMENTARY INFORMATION:

Purpose of Meeting

To obtain, review and evaluate classified information related to the Committee's mission to advise on technology security, combating weapons of mass destruction (WMD), chemical and biological defense, the future of the Cooperative Threat Reduction program, and other matters related to the Department of Defense's mission.

Agenda

Beginning at 9 a.m. through the end of the meeting, the committee will receive secret level briefings on WMD threats, the Defense Threat Reduction Agency, and the status of the Cooperative Threat Reduction program. The TRAC will hold classified discussions on these and related national security matters.

Administrative Meeting

From 8 a.m. until 9 a.m. on Thursday, October 21, 2010, the TRAC will hold an administrative meeting under 41 CFR 102-3.160(b) to swear in its members and provide them with administrative information from a Federal officer or agency.

Meeting Accessibility

Pursuant to 5 U.S.C. 552b, as amended, and 41 CFR 102-3.155, the Department of Defense has determined that the meeting shall be closed to the public. The Undersecretary of Defense (Acquisition, Technology and Logistics), in consultation with the Office of the DoD FACA Attorney, has determined in writing that this meeting be closed to the public because the discussions fall under the purview of Title 5, United States Code, section 552b(c)(1) and are inextricably intertwined with the unclassified material that they cannot reasonably be segregated into separate discussions without disclosing secret or classified material.

Written Statements

Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: September 27, 2010.
Mitchell S. Bryman,
Alternate OSD Federal Register Liaison Officer, Department of Defense.

[FR Doc. 2010-24553 Filed 9-29-10; 8:45 am]

BILLING CODE 5001-06-P